DEPARTMENT OF COMMERCE

International Trade Administration

[A-583-831]

Stainless Steel Sheet and Strip in Coils From Taiwan: Preliminary Results, Preliminary Determination of No Shipments, and Rescission, in Part, of Antidumping Duty Administrative Review; 2022-2023

AGENCY: Enforcement and Compliance, International Trade Administration, Department of Commerce.

SUMMARY: The U.S. Department of Commerce (Commerce) preliminarily determines that sales of stainless steel sheet and strip in coils (SSSSC) from Taiwan were sold at less than normal value during the period of review (POR), July 1, 2022, through June 30, 2023. Additionally, Commerce is rescinding this review, in part, with respect to certain companies. Commerce also preliminarily determines that certain companies for which we initiated a review had no shipments during the POR. We invite interested parties to comment on these preliminary results.

DATES: Applicable August 16, 2024.

FOR FURTHER INFORMATION CONTACT: Genevieve Coen, AD/CVD Operations, Office II, Enforcement and Compliance, International Trade Administration, U.S. Department of Commerce, 1401 Constitution Avenue NW, Washington, DC 20230; telephone: (202) 482-3251.

SUPPLEMENTARY INFORMATION:

Background

On July 27, 1999, Commerce published in the Federal Register the antidumping duty (AD) order on SSSSC from Taiwan.¹ On July 7, 2023, Commerce published in the Federal Register a notice of opportunity to request an administrative review of the Order.² On September 11, 2023, based on a timely request for review, in accordance with 19 CFR 351.221(c)(1)(i), we initiated an administrative review.³ This review covers 61 producers and/or exporters of the subject merchandise.⁴ Commerce selected Tung Mung Development Co Ltd. (Tung Mung) and Yieh Trading Corporation (Yieh Corporation) for individual examination.⁵ The producers and/or exporters not selected for individual examination are listed in the “Preliminary Results of the Review” section of this notice.

¹ See Notice of Antidumping Duty Order; Stainless Steel Sheet and Strip in Coils from United Kingdom, Taiwan, and South Korea, 64 FR 40555 (July 27, 1999) (Order).

² See Antidumping or Countervailing Duty Order, Finding, or Suspended Investigation; Opportunity to Request Administrative Review and Join Annual Service List, 88 FR 42693 (July 7, 2023).

³ See Initiation of Antidumping and Countervailing Duty Administrative Reviews, 88 FR 62322 (September 11, 2023) (Initiation Notice).

⁴ Id.

⁵ See Memorandum, “Respondent Selection,” dated March 4, 2023.

On July 22, 2024, Commerce tolled certain deadlines in this administrative proceeding by seven days.⁶ The deadline for the preliminary results is now August 6, 2024. For a complete description of the events that followed the initiation of this review, see the Preliminary Decision Memorandum.⁷

⁶ See Memorandum, “Tolling of Deadlines for Antidumping and Countervailing Duty Proceedings,” dated July 22, 2024.

⁷ See Memorandum, “Decision Memorandum for the Preliminary Results Administrative Review of the Antidumping Duty Order on Stainless Steel Sheet and Strip in Coils from Taiwan; 2022-2023,” dated concurrently with, and hereby adopted by, this notice (Preliminary Decision Memorandum).

Scope of the Order

The merchandise subject to the Order is certain stainless steel sheet and strip in coils. For a complete description of the scope of the Order see Preliminary Decision Memorandum.

Methodology

Commerce is conducting this review in accordance with sections 751(a)(1)(B) and (2) of the Tariff Act of 1930, as amended (the Act). Pursuant to sections 776(a) and (b) of the Act, Commerce preliminarily relied entirely upon facts otherwise available with adverse inferences for Yieh Corporation.

For a complete description of the methodology underlying our conclusions, see the Preliminary Decision Memorandum. A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Rescission of Administrative Review, in Part

Pursuant to 19 CFR 351.213(d)(3), it is Commerce's practice to rescind an administrative review of an AD order when there are no suspended entries of subject merchandise during the POR.⁸ Normally, upon completion of an administrative review, the suspended entries are liquidated at the AD assessment rate calculated for the review period.⁹ Therefore, for an administrative review to be conducted, there must be a suspended entry that Commerce can instruct CBP to liquidate at the AD assessment rate calculated for the review period.¹⁰

⁸ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

⁹ See 19 CFR 351.212(b)(1).

¹⁰ See 19 CFR 351.213(d)(3).

There were no suspended entries of subject merchandise during the POR for the 52 companies listed in Appendix II.¹¹ On December 11, 2023, Commerce notified all interested parties of its intent to rescind the administrative review in part with respect to these companies, because there were no suspended entries of subject merchandise during the POR and invited interested parties to comment.¹² No interested party submitted comments in response to this notice. Accordingly, in the absence of suspended entries of subject merchandise during the POR for these companies for which this review was initiated, we are, hereby, rescinding this administrative review, in part, with respect to these 52 companies, in accordance with 19 CFR 351.213(d)(3).

¹¹ This list includes two companies, Yieh Mau Corporation (Yieh Mau) and Yieh Phui Enterprise Co., Ltd. (Yieh Phui) which submitted no shipment certifications but did not have suspended entries of subject merchandise during the POR.

¹² See Memorandum, “Notice of Intent to Rescind Review, In Part,” dated December 11, 2024.

Pursuant to 19 CFR 351.213(d)(1), Commerce will rescind an administrative review, in whole or in part, if a party who requested the review withdraws the request within 90 days of the date of publication of the notice of initiation of the requested review. On December 11, 2023, North American Stainless and Outokumpu Stainless USA, LLC, (collectively, the domestic interested parties) timely withdrew their request for an administrative review with respect to Lien Kuo Metal Industries Co., Ltd. and S More Steel Materials Co., Ltd.¹³ Because no other parties requested a review of these two companies, we are rescinding the administrative review in part, with respect to these two companies, as noted in Appendix II.

¹³ See Domestic Interested Parties' Letter, “Domestic Interested Parties' Partial Withdrawal of Request for Administrative Review,” dated December 11, 2023.

Preliminary Determination of No Shipments

Yieh United Steel Corporation (YUSCO) reported that it made no sales or exports of subject merchandise to the United States during the POR.¹⁴ Additionally, Tung Mung reported that it had no sales of subject merchandise to the United States during the POR.¹⁵ CBP data indicated that entries of subject merchandise were made under the CBP 10-digit case reference file numbers for YUSCO and Tung Mung. We requested additional information from CBP including entry summary documents for certain POR entries attributed to Tung Mung and YUSCO, respectively.¹⁶ Based on an analysis of information on the record, we preliminary determine that Tung Mung and YUSCO made no shipments of subject merchandise to the United States during the POR. Further, consistent with Commerce's practice, we find that it is not appropriate to rescind the review with respect to Tung Mung and YUSCO, but rather to complete the review and issue appropriate assessment instructions to CBP based on the final results of review.¹⁷

¹⁴ See YUSCO's Letter, “No Shipment Certification,” dated October 11, 2023.

¹⁵ See Tung Mung's Letters, “Aluminum Extrusions from China {sic},” dated April 1, 2024; “Stainless Steel Sheet and Strip in Coils (SSSSC) from Taiwan,” dated April 17, 2024.

¹⁶ See Memorandum, “Release of U.S. Customs and Border Protection Information,” dated May 3, 2024; see also Memorandum, “Release of U.S. Customs and Border Protection Information,” dated July 17, 2024.

¹⁷ See Antidumping and Countervailing Duty Proceedings: Assessment of Antidumping Duties, 68 FR 23954 (May 6, 2003).

Rate for Non-Selected Companies

The Act and Commerce's regulations do not address the rate to be applied to companies not selected for individual examination when Commerce limits its examination in an administrative review pursuant to section 777A(c)(2) of the Act. Generally, Commerce looks to section 735(c)(5) of the Act, which provides instructions for calculating the all-others rate in a market economy investigation, for guidance when calculating the rate for companies that were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

Section 735(c)(5)(B) further provides if the estimated weighted average dumping margins established for all exporters and producers individually investigated are zero, de minimis, or are determined entirely by application of facts available, Commerce may use any reasonable method to establish the estimated all-others rate for exporters and producers not individually investigated, including averaging the estimated weighted average dumping margins determined for the exporters and producers individually investigated.

We preliminarily based the weighted-average dumping margins for Yieh Corporation, a mandatory respondent in this review, entirely on adverse facts available (AFA), as discussed in the Preliminary Decision Memorandum. Further, we preliminarily find that the mandatory respondent's total AFA dumping margin of 21.10 percent is reasonably reflective of the non-selected companies' potential dumping margins during the POR. Therefore, we preliminarily assigned the margin of 21.10 percent to the four companies not individually examined. For further discussion, see the Preliminary Decision Memorandum.

Preliminary Results of Review

We preliminarily determine that the following estimated weighted-average dumping margins exist for the period July 1, 2022, through June 30, 2023:

Exporter or producer | Estimated weighted- average dumping margin (percent)
Yieh Trading Corporation | 21.10
Review-Specific Average Rate Applicable to the Following Companies:
Chia Far Industrial Factory Co., Ltd. | 21.10
Ta Chen Stainless Pipe Company Ltd. | 21.10
Tang Eng Iron Works Company, Ltd. | 21.10
Yu Ting Industries Co., Ltd. | 21.10

Disclosure

Normally, Commerce discloses to interested parties the calculations performed in connection with a preliminary determination within five days of any public announcement or, if there is no public announcement, within five days of the date of publication of the notice of preliminary determination in the Federal Register, in accordance with 19 CFR 351.224(b). However, because Commerce preliminarily applied total AFA to the individually examined company, Yieh Corporation, in this administrative review, and the applied AFA rate is based on a rate calculated for a respondent in a prior segment of this proceeding, there are no calculations to disclose.

Public Comment

Interested parties may submit case briefs or other written comments to Commerce no later than 30 days after the date of publication of this notice.¹⁸ Rebuttal briefs, limited to issues raised in the case briefs, may be filed no later than five days after the time limit for filing case briefs.¹⁹ Parties who submit case briefs or rebuttal briefs in this proceeding are encouraged to submit with each argument: (1) a statement of the issue; (2) a brief summary of the argument; and (3) a table of authorities.²⁰ As provided under 19 CFR 351.309(c)(2) and (d)(2), in prior proceedings, we have encouraged interested parties to provide an executive summary of their brief that should be limited to five pages total, including footnotes. In this review, we instead request that interested parties provide, at the beginning of their briefs, a public executive summary for each issue raised in their briefs.²¹ Further, we request that interested parties limit their public executive summary of each issue to no more than 450 words, no including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²²

¹⁸ See 19 CFR 351.309(c).

¹⁹ See 19 CFR 351.309(d); see also Administrative Protective Order, Service, and Other Procedures in Antidumping and Countervailing Duty Proceedings; Final Rule, 88 FR 67069 (September 29, 2023) (APO and Service Final Rule).

²⁰ See 19 CFR 351.309(c)(2) and (d)(2).

²¹ We use the term “issue” here to describe an argument that Commerce would normally address in a comment of the Issues and Decision Memorandum.

²² See APO and Service Final Rule.

Pursuant to 19 CFR 351.310(c), interested parties who wish to request a hearing must submit a written request to the Acting Assistant Secretary for Enforcement and Compliance, U.S. Department of Commerce, filed electronically via ACCESS. Hearing requests should contain: (1) the party's name, address, and telephone number; (2) the number of participants; and (3) a list of issues to be discussed. Issues raised in the hearing will be limited to issues raised in the respective case briefs. If a request for a hearing is made, Commerce intends to hold the hearing at a date and time to be determined and will notify the parties through ACCESS.²³ Parties should confirm the date, time, and location of the hearing two days before the scheduled date.

²³ See 19 CFR 351.310(d).

All submissions, including case and rebuttal briefs, as well as hearing requests, should be filed using ACCESS. An electronically-filed document must be received successfully in its entirety by ACCESS by 5:00 p.m. Eastern Time on the established deadline.

Assessment Rates

Pursuant to section 751(a)(2)(A) of the Act, upon completion of the administrative review, Commerce shall determine, and CBP shall assess, antidumping duties on all appropriate entries covered by this review.²⁴

²⁴ See 19 CFR 351.212(b).

For the companies that were not selected for individual review, we intend to assign an assessment rate based on the methodology described in the “Rate for Non-Selected Companies” section, above. The final results of this review shall be the basis for the assessment of antidumping duties on entries of merchandise covered by the final results of this review and for future deposits of estimated duties, where applicable.²⁵

²⁵ See section 751(a)(2)(C) of the Act.

Commerce's “automatic assessment” practice will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.²⁶

²⁶ For a full discussion of this practice, see Antidumping and Countervailing Duty Proceedings: Assessment of Antidumping Duties, 68 FR 23954 (May 6, 2003).

Further, if we continue to find in the final results that Tung Mung and YUSCO had no shipments of subject merchandise during the POR, we will instruct CBP to liquidate any suspended entries that entered under their AD case number (i.e., at that exporter's rate) at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of subject merchandise entered, or withdrawn from warehouse, for consumption on or after the publication date of the final results of this administrative review, as provided by section 751(a)(2)(C) of the Act: (1) the cash deposit rate for the exporters listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review or previous segment, but the manufacturer is, then the cash deposit rate will be the rate established for the most recently-completed segment for the manufacturer of the subject merchandise; and (4) the cash deposit rate for all other producers or exporters will continue to be 12.61 percent, the all-others rate established in the less-than-fair-value investigation.²⁷ These deposit requirements, when imposed, shall remain in effect until further notice.

²⁷ See Order.

Final Results of Review

Commerce intends to issue the final results of this administrative review, including the results of its analysis raised in any written briefs, not later than 120 days after the publication date of this notice, pursuant to section 751(a)(3)(A) of the Act and 19 CFR 351.213(h)(1), unless otherwise extended.²⁸

²⁸ See section 751(a)(3)(A) of the Act.

Notification to Importers

This notice serves as a reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, and 19 CFR 351.221(b)(4).

Dated: August 5, 2024.
Scot Fullerton,
Acting Deputy Assistant Secretary for Antidumping and Countervailing Duty Operations.

Appendix I

List of Topics Discussed in the Preliminary Decision Memorandum

I. Summary

II. Background

III. Scope of the Order

IV. Rescission of Review, In Part

V. Preliminary Determination of No Shipments

VI. Companies Not Selected for Individual Examination

VII. Discussion of the Methodology: Application of Facts Available and Use of Adverse Inferences

VIII. Recommendation

Appendix II

Companies Rescinded From Review

Companies With No Suspended Entries

1. Broad International Resources Ltd.

2. Chain Chon Industrial Co., Ltd.

3. Cheng Feng Plastic Co., Ltd.

4. Chien Shing Stainless Co.

5. China Steel Corporation

6. Chung Hung Steel Corp

7. Chyang Dah Stainless Co., Ltd.

8. Dah Shi Metal Industrial Co., Ltd.

9. Da-Tsai Stainless Steel Co., Ltd.

10. DB Schenker (HK) Ltd. Taiwan Branch.

11. DHV Technical Information Co., Ltd.

12. Froch Enterprises Co., Ltd.

13. Gang Jou Enterprise Co., Ltd.

14. Genn Hann Stainless Steel Enterprise Co., Ltd.

15. Goang Jau Shing Enterprise Co., Ltd.

16. Goldioceans International Co., Ltd.

17. Gotosteel Ltd.

18. Grace Alloy Corp.

19. Hung Shuh Enterprises Co., Ltd.

20. Hwang Dah Steel Inc.

21. Jie Jin Stainless Steel Industry Co., Ltd.

22. JJSE Co., Ltd.

23. KNS Enterprise Co., Ltd.

24. Lancer Ent. Co., Ltd.

25. Lien Chy Laminated Metal Co., Ltd.

26. Lih Chan Steel Co., Ltd.

27. Lung An Stainless Steel Ind. Co., Ltd.

28. Master United Corp.

29. Maytun International Corp.

30. NKS Steel Ind. Ltd.

31. PFP Taiwan Co., Ltd.

32. Po Chwen Metal.

33. Prime Rocks Co., Ltd.

34. Shih Yuan Stainless Steel Enterprise Co., Ltd.

35. Silineal Enterprises Co., Ltd.

36. Stanch Stainless Steel Co., Ltd.

37. Tah Lee Special Steel Co., Ltd.

38. Taiwan Nippon Steel Stainless

39. Teng Yao Hardware Industrial Co., Ltd.

40. Tibest International Inc.

41. Ton Yi Industrial Corp

42. Tsai See Enterprise Co., Ltd.

43. Vasteel Enterprises Co., Ltd.

44. Vulcan Industrial Corporation

45. Wuu Jing Enterprise Co., Ltd.

46. Yc Inox Co., Ltd.

47. Yes Stainless International Co., Ltd.

48. Yieh Mau Corporation

49. Yieh Phui Enterprise Co., Ltd.

50. Yue Seng Industrial Co., Ltd.

51. Yuen Chang Stainless Steel Co., Ltd.

52. Yung Fa Steel & Iron Industry Co., Ltd.

Companies for Which Review Requests Were Withdrawn

1. Lien Kuo Metal Industries Co., Ltd.

2. S More Steel Materials Co., Ltd.

[FR Doc. 2024-18411 Filed 8-15-24; 8:45 am]

BILLING CODE 3510-DS-P